DEPARTMENT OF LABOR

Employee Benefits Security Administration

Advisory Council on Employee Welfare and Pension Benefit Plans Working Group on Financial Literacy; Notice of Meeting

Pursuant to the authority contained in Section 512 of the Employee Retirement Income Security Act of 1974 (ERISA), 29 U.S.C. 1142, the Working Group assigned by the Advisory Council on Employee Welfare and Pension Benefit Plans to study the issue of financial literacy will hold an open public meeting on September 19, 2007.

The session will take place in Room N4437 A-C, U.S. Department of Labor, 200 Constitution Avenue, NW., Washington, DC 20210. The meeting will start immediately following the conclusion of the meeting of the Full Council (which is likely to last 20 to 40 minutes) and continue until approximately 5 p.m., with a one hour break for lunch. The purpose of the open meeting is for Working Group members to hear testimony from invited witnesses. The Working Group is studying financial literacy and the role of employers.

Organizations or members of the public wishing to submit a written statement pertaining to the topic may do so by submitting 25 copies on or before September 12, 2007 to Larry Good, Executive Secretary, ERISA Advisory Council, U.S. Department of Labor, Suite N-5623, 200 Constitution Avenue, NW., Washington, DC 20210. Statements also may be submitted electronically to good.larry@dol.gov. Statements received on or before September 12 will be included in the record of the meeting. Individuals or representatives of organizations wishing to address the Working Group should forward their requests to the Executive Secretary or telephone (202) 693-8668. Oral presentations will be limited to 20 minutes, time permitting, but an extended statement may be submitted for the record. Individuals with disabilities who need special accommodations should contact Larry Good by September 12 at the address indicated.

Signed at Washington, DC this 23rd day of August, 2007.
Ivan Strasfeld,
Director, Office of Exemption Determinations, Employee Benefits Security Administration.

[FR Doc. E7-17051 Filed 8-28-07; 8:45 am]

BILLING CODE 4510-29-P